DEPARTMENT OF ENERGY

Request for Information (RFI): Review of Draft Version of DOE Energy-Water Nexus State Policy Database

AGENCY: Office of Energy Policy and Systems Analysis (EPSA), Department of Energy (DOE).

ACTION: Notice of request for information.

SUMMARY: The Department of Energy (DOE) gives notice of a Request for Information (RFI): “Review of Draft Version of DOE Energy-Water Nexus State Policy Database.” This RFI seeks review and feedback from stakeholders on the draft version of the DOE Energy-Water Nexus State Policy Database, including over 1,700 state-level water policies that affect energy systems. The database is being developed by DOE's Office of Energy Policy and Systems Analysis (DOE-EPSA). The draft or “beta” version of the database is presented as a web tool at http://energywaterpolicy.org. Categories of policies in the database include surface water rights; groundwater rights; water discharge regulations for power plant cooling water effluent, stormwater, and wastewater from oil and gas production; Underground Injection Control (UIC) program regulations; state water plans; regional watershed commissions; reservoir and river operations; and integrated energy and water policies. The goals of the database are to facilitate improved policy analysis, modeling, visualization, and communication by states, industry, utilities, academia, federal agencies, and other stakeholders.

DATES: Written comments and information are requested on or before August 4, 2017.

ADDRESSES: Interested persons are encouraged to submit comments, which must be submitted electronically to EPSA.Database@hq.doe.gov.

FOR FURTHER INFORMATION CONTACT: Requests for additional information may be sent to Samuel Bockenhauer, U.S. Department of Energy, Office of Energy Policy and Systems Analysis, 1000 Independence Avenue SW., Washington, DC 20585. Email: samuel.bockenhauer@hq.doe.gov. Phone: (202) 586-9016.

SUPPLEMENTARY INFORMATION:

Background

Present-day energy and water systems are in many cases interconnected. Water is used in most phases of energy production and electricity generation. Energy is required to extract, convey, and deliver water of appropriate quality for diverse human uses, and then again to treat wastewaters prior to their return to the environment. Historically, energy and water systems have been developed, managed, and regulated independently and without significant acknowledgement of the connections between them. The energy and water policy landscape is thus highly fragmented, which can make it difficult for industry, utilities, government, and other stakeholder groups to effectively balance energy and water goals.

Furthermore, much of the authority for water policy lies at the level of individual states. For example, allocation of water rights and permitting for water discharge are managed primarily at the state level. The particularly complex and fragmented nature of water policies affecting energy systems, as well as their variation across different states, suggests that a centralized, public database of water policies affecting energy systems could enable enhanced policy analysis, modeling, visualization, and communication by states, industry, utilities, academia, federal agencies, and other stakeholders.

Purpose

The purpose of this RFI is to solicit feedback from industry, utilities, academia, research laboratories, government agencies, and other stakeholders on the draft version of the Energy-Water Nexus State Policy Database available at http://energywaterpolicy.org. Regarding the draft version of the Energy-Water Nexus State Policy Database, neither the United States Government nor any agency thereof, nor any of their employees, nor any of their contractors, subcontractors or their employees, makes any warranty, express or implied, or assumes any legal liability or responsibility for the accuracy, completeness, or any third party's use or the results of such use of any information, apparatus, product, or process disclosed, or represents that its use would not infringe privately owned rights. Reference in the draft version of the Energy-Water Nexus State Policy Database to any specific commercial product, process, or service by trade name, trademark, manufacturer, or otherwise, does not necessarily constitute or imply its endorsement, recommendation, or favoring by the United States Government or any agency thereof or its contractors or subcontractors. This RFI is solely an effort to gather information from stakeholders to help inform DOE-EPSA on whether a finalized version of such a database would be useful and how it might be designed.

Request for Information Categories and Questions

DOE is particularly interested in receiving comments and data on the following:

1. Quality and Completeness of Information. Are the policy descriptions accurate and complete? Are they current? Are the key functional pieces of the policy easily accessible? What additional information would be useful? How could the descriptions be streamlined? What other policies should be included?

2. Functionality. How could the functionality be improved in areas such as user interface, search functionality, sorting functionality, site structure, etc.?

3. Uses. How might you or your organization use the database? What key important questions could the database help to answer? What visualizations might you or your organization consider using the database to develop?

4. Connection to Other Data Sources or Initiatives. Are there other data sources in industry, government, academia, or other sectors that could be connected to this database? If so, what are these data sets and how might they be beneficially connected or coordinated with the database?

5. Users. Which stakeholder groups—including groups in industry, government, academia, etc.—might find the database most useful and for what purpose?

6. Maintenance. How should policy developments be tracked and at what frequency to keep the database current and useful?

Request for Information Response Guidelines

Responses to this RFI must be submitted electronically to EPSA.Database@hq.doe.gov no later than 11:59 p.m. (ET) on August 4, 2017. Responses must be provided as attachments to an email. It is recommended that attachments with file sizes exceeding 25MB be compressed (i.e., zipped) to ensure message delivery. Responses must be provided as a Microsoft Word (.docx) or Microsoft Excel (.xslx) attachment to the email. Only electronic responses will be accepted.

Please identify your answers by responding to a specific question or topic if applicable. Respondents may answer as many or as few questions as they wish. DOE-EPSA will not respond to individual submissions or publish publicly a compendium of responses. A response to this RFI will not be viewed as a binding commitment to develop or pursue the project or ideas discussed.

Respondents are requested to provide the following information at the start of their response to this RFI:

• Company/institution name;

• Company/institution contact;

• Contact's address, phone number, and email address.

Confidential Business Information

Pursuant to 10 CFR 1004.11, any person submitting information that he or she believes to be confidential and exempt by law from public disclosure should submit via email two well-marked copies: One copy of the document marked “confidential” including all the information believed to be confidential, and one copy of the document marked “non-confidential” with the information believed to be confidential deleted. DOE will make its own determination about the confidential status of the information and treat it according to its determination.

Factors of interest to DOE when evaluating requests to treat submitted information as confidential include: (1) A description of the items; (2) whether and why such items are customarily treated as confidential within the industry; (3) whether the information is generally known by or available from other sources; (4) whether the information has previously been made available to others without obligation concerning its confidentiality; (5) an explanation of the competitive injury to the submitting person that would result from public disclosure; (6) when such information might lose its confidential character due to the passage of time; and (7) why disclosure of the information would be contrary to the public interest.

Issued in Washington, DC, on May 9, 2017.
Carol Battershell,
Acting Director, Office of Energy Policy and Systems Analysis.

[FR Doc. 2017-11547 Filed 6-2-17; 8:45 am]

BILLING CODE 6450-01-P